DEPARTMENT OF VETERANS AFFAIRS

Advisory Committee on Minority Veterans, Notice of Meeting

The Department of Veterans Affairs (VA) gives notice under the Federal Advisory Committee Act, 5 U.S.C. ch.10, that the Advisory Committee on Minority Veterans will meet virtually on September 25, 2024. The meeting sessions will begin and end as follows:

Date | Time | Location | Open session
September 25, 2024 | 11:00 a.m.-2:30 p.m. Eastern Standard Time | Dial in by phone: +1 872-701-0185, Phone conference ID: 104 401 087# | Yes.

This meeting is open to the public.

The Committee on Minority Veterans advises the Secretary of Veterans Affairs with respect to the administration of benefits by the Department for Veterans who are minority group members, by reviewing reports and studies on compensation, health care, rehabilitation, outreach, and other benefits and services administered by the Department.

On September 25, 2024, the Committee will receive briefings and updates from the Advisory Committee Management Office, Veterans Affairs Deputy Chief of Staff, Veterans Experience Office, Veterans Health Administration, Veterans Benefits Administration, and National Cemetery Administration. The Committee will receive public comments from 2:00 p.m. to 2:15 p.m. Individuals who speak are invited to submit a 1-2-page summary of their comments at the time of the meeting for inclusion in the official meeting record. Members of the public may also submit written statements for the Committee's review to Mr. Dwayne E. Campbell, Department of Veterans Affairs, Center for Minority Veterans (00M), 810 Vermont Avenue NW, Washington, DC, 20420, or email at Dwayne.Campbell3@va.gov. Any member of the public seeking additional information should contact Mr. Campbell or Mr. Ronald Sagudan at (202) 461-6191, or by fax at (202) 273-7092.

Dated: August 28, 2024.
Jelessa M. Burney,
Federal Advisory Committee Management Officer.

[FR Doc. 2024-19728 Filed 8-30-24; 8:45 am]

BILLING CODE 8320-01-P